NATIONAL FOUNDATION ON THE ARTS AND THE HUMANITIES

National Endowment for the Arts

Combined Arts Advisory Panel; Notice of Change

Pursuant to section 10(a)(2) of the Federal Advisory Committee Act (Pub. L. 92-463), as amended, notice is hereby given that the time of the open session of the Combined Arts Advisory Panel, Music Section (Access and Heritage & Preservation categories) has been changed. This session will be held from 11 a.m. to 12:30 p.m., rather than 2 p.m. to 3:30 p.m., on November 22, 2002, at the Nancy Hanks Center, 1100 Pennsylvania Avenue, NW., Washington, DC, 20506.

Dated: October 22, 2002.
Kathy Plowitz-Worden,
Panel Coordinator, Panel Operations, National Endowment for the Arts.

[FR Doc. 02-27322 Filed 10-25-02; 8:45 am]

BILLING CODE 7537-01-P